DEPARTMENT OF ENERGY

Federal Energy Regulatory Commission

[Project No. 3063-021]

Blackstone Hydro Associates; Notice Soliciting Scoping Comments

Take notice that the following hydroelectric application has been filed with the Commission and is available for public inspection.

a. Type of Application: Subsequent Minor License.

b. Project No.: 3063-021.

c. Date filed: July 31, 2019.

d. Applicant: Blackstone Hydro Associates (BHA).

e. Name of Project: Central Falls Hydroelectric Project.

f. Location: On the Blackstone River, in the City of Central Falls, Providence County, Rhode Island. No federal lands are occupied by the project works or located within the project boundary.

g. Filed Pursuant to: Federal Power Act 16 U.S.C. 791 (a)-825(r).

h. Applicant Contact: Mr. Robert Leahy, 130 Prospect Street, Cambridge, MA 02139; Phone at (617) 491-2320, or email at rleahy@theshorelinecorp.com.

i. FERC Contact: John Baummer, 202-502-6837, or john.baummer@ferc.gov.

j. Deadline for filing scoping comments: March 1, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3063-021.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Central Falls Project consists of: (1) A 190-foot-long, 24-foot-high, curved granite-masonry dam (Valley Falls Dam); (2) an approximately 64.5-acre impoundment with a normal maximum elevation of 49.5 feet National Geodetic Vertical Datum of 1929 (NGVD 1929); (3) a granite block and wood-framed gatehouse that is adjacent to the dam and that contains ten gates that are 9 feet wide by 6 feet tall; (4) a 290-foot-long, granite block-lined headrace; (5) an intake structure with two 8-foot-high hydraulic gates and 24-foot-wide, 11.5-foot-high, inclined trashracks having 3-inch clear bar spacing; (6) two 30-foot-long, 7-foot-diameter penstocks; (7) an approximately 53-foot-long, 32-foot-wide concrete powerhouse containing two Allis-Chalmers tube turbines with a total installed capacity of 700 kilowatts (kW); (8) an approximately 1,200-foot-long, 36-foot-wide tailrace; (9) two 480-volt generator lead lines; and (10) appurtenant facilities.

BHA operates the project as a run-of-river facility, such that outflow from the project approximates inflow. The project bypasses approximately 0.3 mile of the Blackstone River. A 108-cubic feet per second (cfs) minimum flow is released over the dam into the bypassed reach. BHA discharges a continuous minimum flow of 238 cfs, or inflow, whichever is less, as measured at the confluence of the tailrace and the river channel. The average annual generation of the project is approximately 1,230 megawatt-hours (MWh).

BHA proposes to: (1) Continue operating the project in a run-of-river mode; (2) retrofit the two existing turbines with variable pitch blade runners to allow for the project to be operated at different flows; (3) install a new bypassed flow pipe to provide a minimum flow of 210 cfs to the bypassed reach, approximately 215 feet downstream of the dam; (4) install a new 160-kW “fish friendly” turbine-generator unit in the proposed bypassed flow pipe to increase the project's capacity and provide downstream fish passage; (5) install a new trashrack with 1-inch clear bar spacing in the headrace to prevent fish impingement and entrainment; (6) install a new downstream fish passage facility in the headrace, immediately upstream of the new trashrack; (7) maintain a 13-cfs aesthetic flow over the Valley Falls Dam; (8) provide a flow of up to 3 cfs to the adjacent historic canal; (9) install an upstream eel passage facility at the project dam; and (10) install 20 long-eared bat boxes and implement a Northern Long Eared Bat Management and Protection Plan to protect bats. BHA estimates the project enhancements will result in an average annual generation of approximately 3,200 MWh.

m. A copy of the application is available for review at the Commission in the Public Reference Room or may be viewed on the Commission's website at http://www.ferc.gov using the “eLibrary” link. Enter the docket number excluding the last three digits in the docket number field to address the document. For assistance, contact FERC Online Support. A copy is also available for inspection and reproduction at 1485 High Street Central Falls, RI 02863.

n. You may also register online at http://www.ferc.gov/docs-filing/esubscription.asp to be notified via email of new filings and issuances related to this or other pending projects. For assistance, contact FERC Online Support.

o. Scoping Process.

Commission staff intend to prepare a single Environmental Assessment (EA) for the Central Falls Hydroelectric Project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued January 31, 2020.

Copies of the SD1 outlining the subject areas to be addressed in the EA were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: January 31, 2020.
Kimberly D. Bose,
Secretary.

[FR Doc. 2020-02580 Filed 2-7-20; 8:45 am]

BILLING CODE 6717-01-P